DEPARTMENT OF THE INTERIOR

Bureau of Land Management

[NV-930-1430-ET; NVN 56315, 3-08808]

Public Land Order No. 7586; Revocation of Public Land Order No. 7142; Nevada

AGENCY: Bureau of Land Management, Interior.

ACTION: Public Land Order.

SUMMARY: This order revokes a public land order in its entirety as to 40 acres of public land withdrawn for the Bureau of Land Management's Las Vegas Administrative Site. This site was never developed and is no longer needed for the purpose for which it was withdrawn.

EFFECTIVE DATE: October 27, 2003.

FOR FURTHER INFORMATION CONTACT: Dennis J. Samuelson, BLM Nevada State Office, P.O. Box 12000, Reno, Nevada 89520, 775-861-6532.

SUPPLEMENTARY INFORMATION: The land will remain closed to location and entry under the mining laws, and from operation under the mineral leasing and geothermal leasing laws, in accordance with the Southern Nevada Public Land Management Act of 1998.

Order

By virtue of the authority vested in the Secretary of the Interior by Section 204 of the Federal Land Policy and Management Act of 1976, 43 U.S.C. 1714 (2000), it is ordered as follows:

1. Public Land Order No. 7142 (60 FR 25149, May 11, 1995), which withdrew public land for the Bureau of Land Management's Las Vegas Administrative Site, is hereby revoked in its entirety as to the following described land:

Mount Diablo Meridian

T. 20 S., R. 60 E.,

Sec. 22, SE¼NW¼.

The area described contains 40 acres in Clark County.

2. The land described in Paragraph 1 is hereby made available for disposition in accordance with Section 4 of the Southern Nevada Public Land Management Act of 1998, Public Law 105-263, 111 Stat. 2343, et seq. The land remains closed to location and entry under the mining laws, and from operation under the mineral leasing and geothermal leasing laws in accordance with the Act.

Dated: September 24, 2003.
Rebecca W. Watson,
Assistant Secretary—Land and Minerals Management.

[FR Doc. 03-26997 Filed 10-24-03; 8:45 am]

BILLING CODE 4310-HC-P